NATIONAL SCIENCE FOUNDATION

Notice of Workshop

Agency Holding Workshop: National Science Board.

Date and Time: October 20, 2005 8:25 a.m.-5 p.m. (e.t.).

Place: Massachusetts Institute of Technology, Faculty Club, Alfred P. Sloan Building, 6th Floor, Dining 5 and 6, Memorial Drive and Wadsworth Street, Cambridge, MA.

Status: This workshop will be open to the public.

Engineering Workforce Issues and Engineering Education: What Are the Linkages?

8:25 a.m. Welcome

Warren M. Washington,* Chairman, National Science Board

8:30 a.m. Panel 1: Aspirations for Engineering Education

Opening Remarks—Daniel Hastings,* National Science Board

National Academy of Engineering—The Engineer of 2020, Phases I & II G. Wayne Clough,* National Science Board

Data, trends, and outlooks—John A. Brighton,* Iowa State University

NSF activities in engineering—Arden L. Bement,* National Science Foundation

9:10 a.m. Group Discussion among Workshop Participants

9:20 a.m. Questions and Comments from the Audience

9:30 a.m. Panel 2: Engineering Education—Present and Future

Moderator: Daniel Hastings, National Science Board

Alice Agogino,* University of California, Berkeley; Richard Miller,* Olin College of Engineering; Linda Katehi,* Purdue University; Eli Fromm,* Drexel University; and Tom Magnanti,* MIT.

10:30 a.m. Group Discussion among Workshop Participants

11:15 a.m. Questions and Comments from the Audience

11:30 a.m. Break

1 p.m. Panel 3: Engineering Employment—Present and Future

Moderator: Louis L. Lanzerotti, National Science Board

Peter Pao;* Raytheon Company; Ronil Hira,* IEEE-USA; Jim Miller,* Cisco Systems, Inc.; and Gloria Jeff,* Michigan Department of Transportation.

2 p.m. Group Discussion among Workshop Participants

2:45 p.m. Questions and Comments from the Audience

3 p.m. Breakout Sessions to Address the Question: How do we ensure that the best and the brightest students pursue engineering studies and careers, and that their education quality, content, and teaching are of the highest caliber?

Location: Dining 3, Dining 5, and Dining 6

Session Chairs: G. Wayne Clough, Louis L. Lanzerotti, Daniel Hastings

4:30 p.m. Report Out and Wrap-Up

Moderator: Daniel Hastings*

*Confirmed speaker

For Further Information Contact: Dr. Michael P. Crosby, Executive Officer and NSB Office Director, (703) 292-7000, http://www.nsf.gov/nsb.

Michael P. Crosby,
Executive Officer and NSB Office Director.

[FR Doc. 05-20554 Filed 10-12-05; 8:45 am]

BILLING CODE 7555-01-P